AGENCY FOR INTERNATIONAL DEVELOPMENT

Senior Executive Service: Membership of Performance Review Board

ACTION: Notice.

SUMMARY: This notice lists approved candidates who will comprise a standing roster for service on the Agency's 2012 and 2013 SES Performance Review Boards. The Agency will use this roster to select SES board members, and an outside member for the convening SES Performance Review Board each year. The standing roster is as follows:

Allen, Colleen

Brause, Jon

Cappozola, Christa

Casella, Michael

Cataldo, Ann

Chan, Carol

Crumbly, Angelique

Eugenia, Mercedes

Foley, Jason

Gottlieb, Gregory

Gomer, Lisa

Horton, Jerry

McNerney, Angela

Miranda, Roberto

Moore, Franklin

Kuyumjian, Kent

O'Neill, Maura

Ostermeyer, David

Pascocello, Susan

Peters, James

Romanowski, Alina

Steele, Gloria

Vera, Mauricio

Walther, Mark

Warren, Wade

Wiggins, Sandra

Winter, Gary

Nunez-Mattocks, Aracely; Outside SES Member

Acton, John; Outside SES Member

FOR FURTHER INFORMATION CONTACT: Melissa Jackson, 202-712-1781.

Dated: November 1, 2012.
Kevin Kozlowski,
ELR Specialist, Employee & Labor Relations Division.

[FR Doc. 2012-27229 Filed 11-6-12; 8:45 am]

BILLING CODE P